DEPARTMENT OF COMMERCE

International Trade Administration

[C-570-113]

Certain Collated Steel Staples From the People's Republic of China: Final Results of Countervailing Duty Administrative Review; 2022

AGENCY: Enforcement and Compliance, International Trade Administration, Department of Commerce.

SUMMARY: The U.S. Department of Commerce (Commerce) determines that countervailable subsidies were provided to Tianjin Hweschun Fasteners Manufacturing Co., Ltd. (Tianjin Hweschun) a producer and exporter of certain collated steel staples (collated staples) from the People's Republic of China (China) during the period of review (POR) from January 1, 2022, through December 31, 2022.

DATES: Applicable December 17, 2024.

FOR FURTHER INFORMATION CONTACT: Brandon James or Robert Palmer, AD/CVD Operations, Office VIII, Enforcement and Compliance, International Trade Administration, Department of Commerce, 1401 Constitution Avenue NW, Washington, DC 20230; telephone: (202) 482-7472 or (202) 482-9068, respectively.

SUPPLEMENTARY INFORMATION:

Background

On August 12, 2024, Commerce published the Preliminary Results.¹ For a complete description of the events that occurred subsequent to the Preliminary Results, see the Issues and Decision Memorandum.² On July 22, 2024, Commerce tolled certain deadlines in this administrative proceeding by seven days.³ Additionally, on December 9, 2024, Commerce tolled the deadline to issue the final results in this administrative review by 90 days.⁴ Accordingly, the deadline for these final results is now March 10, 2025.

¹ See Certain Collated Steel Staples from the People's Republic of China: Preliminary Results and Partial Rescission of the Countervailing Duty Administrative Review; 2022, 89 FR 65598 (August 12, 2024) (Preliminary Results), and accompanying Preliminary Decision Memorandum.

² See Memorandum, “Issues and Decision Memorandum for the Final Results of the 2022 Countervailing Duty Administrative Review of Certain Collated Steel Staples from the People's Republic of China,” dated concurrently with, and hereby adopted by, this notice (Issues and Decision Memorandum).

³ See Memorandum, “Tolling of Deadlines for Antidumping and Countervailing Duty Proceedings,” dated July 22, 2024.

⁴ See Memorandum, “Tolling of Deadlines for Antidumping and Countervailing Duty Proceedings,” dated December 9, 2024.

Scope of the Order ⁵

⁵ See Certain Collated Steel Staples from the People's Republic of China: Countervailing Duty Order, 85 FR 43813 (July 20, 2020) (Order).

The merchandise subject to the Order is collated staples from China. A full description of the scope of the Order is contained in the Issues and Decision Memorandum.

Analysis of Comments Received

All issues raised by interested parties in briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made no revisions to the countervailable subsidy rate calculations for Tianjin Hweschun, the sole mandatory respondent in this review.⁶

⁶ See Memorandum, “Final Results Calculations for Tianjin Hweschun Fasteners Manufacturing Co., Ltd.,” dated concurrently with this notice; see also Preliminary Results, 89 FR at 65598; see also Memorandum, “Post-Preliminary Analysis in the Countervailing Duty Administrative Review of Certain Collated Steel Staples from the People's Republic of China; 2022,” dated October 3, 2024 (Post-Prelim).

Methodology

Commerce is conducting this review in accordance with section 751(a)(1)(A) of the Act. For each of the subsidy programs found countervailable, we find that there is a subsidy, i.e., a government-provided financial contribution that gives rise to a benefit to the recipient, and that the subsidy is specific.⁷ The Issues and Decision Memorandum contains a full description of the methodology underlying Commerce's conclusions, including any determination that relied upon the use of facts otherwise available, including with an adverse inference, pursuant to sections 776(a) and (b) of the Act.

⁷ See sections 771(5)(B) and (D) of the Act regarding financial contribution; section 771(5)(E) of the Act regarding benefit; and section 771(5A) of the Act regarding specificity.

Final Results of Review

We find the net countervailable subsidy rate for the mandatory respondent under review for the period of January 1, 2022, through December 31, 2022, to be as follows:

Producer/exporter | Subsidy rate (percent ad valorem)
Tianjin Hweschun Fasteners Manufacturing Co., Ltd | 70.10

Disclosure

Because Commerce has not modified its analysis or calculations from the Preliminary Results, there are no new calculations to disclose for these final results of review in accordance with 19 CFR 351.224(b).

Assessment Rates

Pursuant to section 751(a)(2)(C) of the Act and 19 CFR 351.212(b), Commerce has determined, and U.S Customs and Border Protection (CBP) shall assess, countervailing duties on all appropriate entries of subject merchandise in accordance with the final results of this review for Tianjin Hweschun at the applicable ad valorem assessment rate listed above. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amounts shown for Tianjin Hweschun listed above on shipments of subject merchandise entered, or withdrawn from warehouse, for consumption on or after the date of publication of the final results of this administrative review. For all non-reviewed firms subject to the Order, we will instruct CBP to continue to collect cash deposits of estimated countervailing duties at the most recent company-specific or all-others rate applicable to the company, as appropriate. These cash deposit requirements, effective upon publication of the final results of review, shall remain in effect until further notice.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5).

Dated: December 10, 2024.
Abdelali Elouaradia,
Deputy Assistant Secretary for Enforcement and Compliance.

Appendix

List of Topics Discussed in the Issues and Decision Memorandum

I. Summary

II. Background

III. Scope of the Order

IV. Diversification of China's Economy

V. Use of Facts Otherwise Available and Application of Adverse Inferences

VI. Subsidies Valuation Information

VII. Benchmarks

VIII. Analysis of Programs

IX. Discussion of the Issue

Comment: Whether Commerce Should Remove Inland Freight and Value-Added Taxes (VAT) From the Wire Rod and Galvanized Steel Wire Benchmarks

X. Recommendation

[FR Doc. 2024-29599 Filed 12-16-24; 8:45 am]

BILLING CODE 3510-DS-P